DEPARTMENT OF TRANSPORTATION

Federal Highway Administration

[Docket No. FHWA-2009-0039]

Agency Information Collection Activities: Notice of Request for Renewal of a Previously Approved Information Collection Titled: Federal Highway Administration (FHWA) State Reports for American Recovery and Reinvestment Act (ARRA)

AGENCY: Federal Highway Administration (FHWA), DOT.

ACTION: Notice of request for comments.

SUMMARY: The FHWA invites public comments about our intention to request the Office of Management and Budget's (OMB) approval for information collection that is summarized below under SUPPLEMENTARY INFORMATION. We are required to publish this notice in the Federal Register by the Paperwork Reduction Act of 1995.

DATES: Please submit comments by July 20, 2009.

ADDRESSES: You may submit comments identified by DOT Docket ID Number FHWA-2009-0039, by any of the following methods:

Web Site: For access to the docket to read background documents or comments received go to the Federal eRulemaking Portal: http://www.regulations.gov. Follow the online instructions for submitting comments.

Fax: 1-202-493-2251.

Mail: Docket Management Facility, U.S. Department of Transportation, West Building Ground Floor, Room W12-140, 1200 New Jersey Avenue, SE., Washington, DC 20590-0001.

Hand Delivery or Courier: U.S. Department of Transportation, West Building Ground Floor, Room W12-140, 1200 New Jersey Avenue, SE., Washington, DC 20590, between 9 a.m. and 5 p.m. ET, Monday through Friday, except Federal holidays.

FOR FURTHER INFORMATION CONTACT: Karen White, 202-366-9474, Office of Policy and Governmental Affairs, HPTS, Federal Highway Administration, Department of Transportation, 1200 New Jersey Avenue, SE., Washington, DC 20590, between 7:30 a.m. to 4:30 p.m., Monday through Friday, except Federal holidays.

SUPPLEMENTARY INFORMATION: Title: Federal Highway Administration (FHWA) State Reports for American Recovery and Reinvestment Act (ARRA), OMB Control # 2125-0623.

Background: The American Recovery and Reinvestment Act of 2009 (ARRA), provides the State Departments of Transportation and Federal Lands Agencies with $27.5 billion for highway infrastructure investment. With these funds also comes an increased level of data reporting with the stated goal of improving transparency and accountability at all levels of government. According to President Obama “Every American will be able to hold Washington accountable for these decisions by going online to see how and where their tax dollars are being spent.” The Federal Highway Administration (FHWA) in concert with the Office of the Secretary of Transportation (OST) and the other modes within the U.S. Department of Transportation (DOT) will be taking the appropriate steps to ensure that this accountability and transparency is in place for all infrastructure investments.

The reporting requirements of the ARRA are covered in Sections 1201, 1512 and 1609. Section 1201 (c)(1) stipulates that “notwithstanding any other provision of law each grant recipient shall submit to the covered agency (FHWA) from which they received funding periodic reports on the use of the funds appropriated in this Act for covered programs. Such reports shall be collected and compiled by the covered agency (FHWA) and transmitted to Congress. Covered agencies (FHWA) may develop such reports on behalf of grant recipients (States) to ensure the accuracy and consistency of such reports.”

Section 1512 of the ARRA requires “any entity that receives recovery funds directly from the Federal Government (including recovery funds received through grant, loan, or contract) other than an individual,” including States, to provide regular “Recipient Reports.”

Section 1609 references the National Environmental Policy Act of January 1, 1970. The ARRA legislation requires that “The President shall report to the Senate Environment and Public Works Committee and the House National Resources Committee every 90 days... the status and progress of projects and activities funded by this Act with respect to compliance with National Environmental Policy act requirements and documentation.”

As the recipients or grantees for the majority of the ARRA funds, States and Federal Land Management Agencies (FLMA) are by statute responsible for reporting to FHWA on the projects, use of ARRA funds, and jobs supported. States and FLMA that receive recovery fund apportionments directly from the Federal government are responsible for reporting to FHWA, which in turn is responsible for reporting periodically to Congress and quarterly to the Recovery.gov Web site. To achieve a high-quality, consistent basis for reporting, the FHWA has designed a system for obtaining and summarizing data for all purposes.

States and FLMA will be responsible for providing the data that are not currently available at the national level. Not every data element required to be reported by the ARRA needs to be specifically collected. To the maximum extent possible, FHWA will utilize existing data programs to meet the ARRA reporting requirements. For example, for the requirement to report aggregate expenditures of State funds, FHWA will use existing reports submitted by States and data collected in the Financial Management Information System (FMIS). While the reporting obligations in the ARRA are only applicable to the grant recipients, the States and FLMA may need to obtain certain information from their contractors, consultants, and other funding recipients in order to provide the FHWA with all of the required information. Additional information on the American Recovery and Reinvestment Act of 2009 is available at http://www.fhwa.dot.gov/economicrecovery/index.htm.

Respondents: In a reporting cycle, it is estimated that reports will be received from approximately 70 grant recipients. Respondents include: 50 State Departments of Transportation, the District of Columbia and Puerto Rico, the U.S. territories, the following Federal Land Management Agencies: National Park Service, U.S. Fish and Wildlife, National Forest Service and the Bureau of Indian Affairs, and several Native American Indian Governments who, by contract, manage their own transportation program. These reports will be submitted online and reviewed for accuracy by the FHWA Division Offices before being submitted to FHWA Headquarters for compilation and submission to OST for publication on Recovery.gov.

Form#: FHWA-1585.

Background: This form is used by the State DOTs and the FLMAs to provide information on the status of all their ARRA projects. The data that is collected on this form addresses the reporting requirements of Sections 1201 and 1512.

Frequency: Monthly until September 2012.

Estimated Average Burden per Response: 1 hour.

Estimated Total Annual Burden Hours: 3,010 hours.

Form#: FHWA-1586.

Background: This form is used to collect information concerning how each State and FLMA plans to invest its allotment of ARRA funding. The list needs to be consistent with the list of projects provided in the State's Section 1511 certification, as it may be amended. States and FLMA should provide their best estimates of a complete list of projects to be funded with ARRA grants as of the plan's due date. If a State has not programmed all ARRA funds by that time, that information should be provided as well. These data will be used for meeting the reporting requirements of Sections 1201, 1512 and 1609.

Frequency: Initial list was due March 31, 2009. Additional updates are due within 2 weeks of the State or FLMA issuing a new Section 1511 certification.

Estimated Average Burden per Response: 1 hour.

Estimated Total Annual Burden Hours: 280 hours.

Form#: FHWA-1587.

Background: This form is used by States, FLMA and the FHWA to provide summary employment information for all active ARRA projects. These data will be used for meeting the reporting requirements of Sections 1201 and 1512.

Frequency: Monthly until September 2012.

Estimated Average Burden per Response: 1 hour.

Estimated Total Annual Burden Hours: 3,010 hours.

Form#: FHWA-1588.

Background: This report form is for cases in which a State or FLMA needs to provide information on one or more individual ARRA projects that are part of a previously awarded grouped, bundled or area wide project. These data will be used for meeting the reporting requirements of Sections 1201, 1512 and 1609. States and FLMA shall provide the required information as individual projects. If a State or Federal Lands agency has no grouped or bundled projects, then no report is necessary. An example of an area wide grouped or bundled project would be a district wide bridge project that involves re-decking one bridge and replacing the guardrail on a second. Each of these individual bridge projects would be reported on this form after they have been awarded.

Frequency: Monthly as needed until September 2012

Estimated Average Burden per Response: 1 hour.

Estimated Total Annual Burden Hours: 560 hours.

Form#: FHWA-1589

Background: This form is to be used by the FHWA to gather employment information on every ARRA project that is initiated by the FHWA. Monthly employment information will be used to meet the requirements of Sections 1201 and 1512. In order for FHWA to fulfill the reporting obligations, FHWA must collect and analyze certain employment data for each FHWA ARRA funded contract. FHWA will require contractors and consultants to provide the required information for their own workforce as well as the workforce of all subcontractors that were active on their ARRA funded project(s) for the reporting month.

Frequency: Monthly until the contract is completed or September 2012 whichever occurs first.

Estimated Average Burden per Response: 0.5 hour.

Estimated Total Annual Burden Hours: 500 hours.

Form#: FHWA-1590.

Background: This form contains the detailed instructions for completing the previous ARRA data reporting forms.

Frequency: Issued once initially.

Estimated Average Burden per Response: 10 minutes.

Estimated Total Annual Burden Hours: 12 hours.

Authority: The Paperwork Reduction Act of 1995; 44 U.S.C. Chapter 35, as amended; and 49 CFR 1.48.

Issued on: May 14, 2009.
James R. Kabel,
Chief, Management Programs and Analysis Division.

[FR Doc. E9-11724 Filed 5-19-09; 8:45 am]

BILLING CODE 4910-22-P